DEPARTMENT OF LABOR

Employment and Training Administration

[TA-W-57,231]

AMI Doduco, Chase Precision Products Division, a Subdivision of Technitrol, Reidsville, NC; Notice of Termination of Investigation

Pursuant to Section 221 of the Trade Act of 1974, as amended, an investigation was initiated on May 20, 2005 in response to a petition filed by a company official on behalf of workers at AMI Doduco, Chase Precision Products Division, a subdivision of Technitrol, Reidsville, North Carolina.

The Department has determined that this petition is a photocopy of petition number TA-W-57,182, which was initiated on May 6, 2005. The company official requested that the petition be withdrawn. Accordingly, the investigation was terminated on June 10, 2005. The notice will soon be published in the Federal Register.

Since this petition (TA-W-57,231) is a photocopy of the initial petition, and the petitioner requested that the petition be withdrawn, this investigation is terminated.

Signed at Washington, DC, this 22nd day of June, 2005.
Linda G. Poole,
Certifying Officer, Division of Trade Adjustment Assistance.

[FR Doc. E5-3762 Filed 7-14-05; 8:45 am]

BILLING CODE 4510-30-P